DEPARTMENT OF TRANSPORTATION

Federal Motor Carrier Safety Administration

Sunshine Act Meetings; Unified Carrier Registration Plan Board of Directors

AGENCY: Federal Motor Carrier Safety Administration (FMCSA), DOT.

Time and Date: June 9, 2010, 8 a.m. until 12 Noon, Mountain Daylight Time.

Place: This meeting will take place telephonically. Any interested person may call Place: This meeting will take place at the Hotel Park City, 2001 Park Avenue, Park City, UT 84060. Any interested person may call Mr. Avelino Gutierrez at (505) 827-4565 to receive the toll free number and pass code needed to participate in this meeting by telephone.

Status: Open to the public.

Matters to be Considered: The Unified Carrier Registration Plan Board of Directors (the Board) will continue its work in developing and implementing the Unified Carrier Registration Plan and Agreement and to that end, may consider matters properly before the Board.

FOR FURTHER INFORMATION CONTACT: Mr. Avelino Gutierrez, Chair, Unified Carrier Registration Board of Directors at (505) 827-4565.

Issued on: May 28, 2010.
Larry W. Minor,
Associate Administrator for Policy and Program Development.

[FR Doc. 2010-13396 Filed 5-28-10; 4:15 pm]

BILLING CODE 4910-EX-P